DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 102 eligible grant recipients funded in FY 2022 under the Tribal Opioid Response Grant, Notice of Funding Opportunity (NOFO) TI-22-006. Recipients may receive up to $876,267 each for a total of $6.6 million. These recipients have a project end date of September 29, 2024. The supplemental funding will be used to further support opioid and stimulant use disorder treatment, prevention, recovery, and harm reduction activities, including traditional cultural activities.

FOR FURTHER INFORMATION CONTACT: William Longinetti, Substance Abuse and Mental Health Services Administration, 5600 Fishers Lane, Rockville, MD 20857, telephone 240-276-1190; email: william.longinetti@samhsa.hhs.gov.

SUPPLEMENTARY INFORMATION:

Funding Opportunity Title: FY 2022 Tribal Opioid Response Grant Program TI-22-006.

Assistance Listing Number: 93.788.

Authority: Section 509 of the Public Health Service Act, as amended.

Justification: This is not a formal request for application. Assistance will only be provided to the 102 Tribal Opioid Response Grant recipients funded in FY 2022 under the Tribal Opioid Response Cooperative Agreements TI-22-006 based on the receipt of a satisfactory application and associated budget that is approved by a review group. The purpose of the supplement is to further expand and enhance current TOR grantee activities so only current recipients are eligible.

Dated: June 22, 2023.
Ann Ferrero,
Public Health Analyst.

[FR Doc. 2023-13619 Filed 6-26-23; 8:45 am]

BILLING CODE 4162-20-P